DEPARTMENT OF DEFENSE

Office of the Secretary

Meeting of the Defense Policy Board Advisory Committee

Correction

In notice document 03-17779 appearing on page 41785 in the issue of Tuesday, July 15, 2003, make the following corrections:

1. On page 41785, in the second column, under the heading SUMMARY, in the fifth line, “as scheduled” should read “was scheduled”.

2. On the same page, in the same column, under the same heading, in the ninth line, “not meet” should read “now meet”.

[FR Doc. C3-17779 Filed 7-28-03; 8:45 am]

BILLING CODE 1505-01-D

FEDERAL ELECTION COMMISSION

Sunshine Act Notices

Correction

In notice document 03-19043 appearing on page 43726 in the issue of Thursday, July 24, 2003 make the following correction:

On page 43726, in the third column, in the second STATUS section, in the first line, “closed” should read “open”.

[FR Doc. C3-19043 Filed 7-28-03; 8:45 am]

BILLING CODE 1505-01-D